DEPARTMENT OF HEALTH AND HUMAN SERVICES

Health Resources and Services Administration

Agency Information Collection Activities: Submission for OMB Review; Comment Request

Periodically, the Health Resources and Services Administration (HRSA) publishes abstracts of information collection requests under review by the Office of Management and Budget, in compliance with the Paperwork Reduction Act of 1995 (44 U.S.C. Chapter 35). To request a copy of the clearance requests submitted to OMB for review, call the HRSA Reports Clearance Office on (301) 443-1129.

The following request has been submitted to the Office of Management and Budget for review under the Paperwork Reduction Act of 1995:

Proposed Project: Ryan White Comprehensive AIDS Resources Emergency Act of 1990—Title IV (OMB #0915-0206)—Extension

This is a request for extension of the reporting system of the Ryan White Comprehensive AIDS Resources Emergency (CARE) Act of 1990, Title IV as amended by the Ryan White CARE Act Amendments of 1996. It authorizes a reporting system to collect information from grantees and the service providers that are their subcontractors as governed under Section 2671 of the Public Health Service (PHS) Act (42 U.S.C. 300ff-71).

Title IV provides support for coordinated HIV services and access to research for children, youth, women, and families. It supports efforts to develop comprehensive, coordinated, culturally competent, family-centered systems of care and to provide access to research for those infected or affected by HIV infection. The Title IV program supports a broad variety of interventions in health care delivery that are designed to link clients receiving health care to other essential and supporting services and to clinical research. Grants are made to public and private non-profit health centers and other appropriate public or non-profit private entities that are linked to a comprehensive health care system. This system includes clinical research for children, youth, and women. The HIV/AIDS Bureau (HAB) within HRSA administers funds for Title IV of the CARE Act.

There are 53 grantees under Title IV's Children, Youth, Women and Families Program, with approximately 125 affiliated service providers, for a total of 178 entities who report information about the clients they serve and the services they provide. Grantees are located in 27 States, Puerto Rico and the District of Columbia.

Estimated Burden Hours
Form name | Number of respondents | Responses per respondent | Total responses | Hours per response | Total burden hours
Designation of Local Reporting Entities—Table 1A | 53 | 1 | 53 | .25 | 13.25
Local Network Profile—Table 1B | 178 | 1 | 178 | .5 | 89
Person-based Demographic and clinical Status Summary—Table 2 | 178 | 1 | 178 | 30.00 | 5,340
Service Utilization Summary—Table 3 | 178 | 1 | 178 | 20.00 | 3,560
Prevention, Outreach, and Education Activities—Table 4 | 178 | 1 | 178 | 4.00 | 712
Total | 178 | 1 | 178 | 54.75 | 9,746

Written comments and recommendations concerning the proposed information collection should be sent within 30 days of this notice to: John Morrall, Human Resources and Housing Branch, Office of Management and Budget, New Executive Office Building, Room 10235, Washington, D.C. 20503.

Dated: October 13, 2000.
Jane M. Harrison,
Director, Division of Policy Review and Coordination.

[FR Doc. 00-26894 Filed 10-18-00; 8:45 am]

BILLING CODE 4160-15-U